INTERNATIONAL TRADE COMMISSION

[Investigation No. 332-473]

Commercial Availability of Apparel Inputs (2006): Effect of Providing Preferential Treatment to Apparel From Sub-Saharan African, Caribbean Basin, and Andean Countries

AGENCY: United States International Trade Commission.

ACTION: Institution of investigation.

DATES: Effective Date: February 27, 2006.

SUMMARY: Following receipt of a request from the United States Trade Representative (USTR) dated February 16, 2006, the Commission instituted its sixth annual investigation No. 332-473, Commercial Availability of Apparel Inputs (2006): Effect of Providing Preferential Treatment to Apparel from Sub-Saharan African, Caribbean Basin, and Andean Countries, under section 332(g) of the Tariff Act of 1930 (19 U.S.C. 1332(g)) to provide advice regarding the probable economic effect of granting preferential treatment to apparel made from fabrics or yarns that are the subject of petitions filed in 2006 with the Committee for the Implementation of Textile Agreements (CITA) under the “commercial availability” provisions of the African Growth and Opportunity Act (AGOA), the United States-Caribbean Basin Trade Partnership Act (CBTPA), and the Andean Trade Promotion and Drug Eradication Act (ATPDEA). The Commission conducted similar investigations in the years 2001-05 to provide advice with respect to petitions filed in those years.

Background: The Commission will follow procedures similar to those followed in the commercial availability reviews in 2005 under investigation No. 332-465. Thus, in 2006, the Commission will provide advice for each commercial availability review under one investigation number. The Commission will post a notification letter announcing the initiation of each review on its Internet site (http://www.usitc.gov) and send the notification letter to a list of interested parties who wish to be automatically notified about any requests for which the Commission initiates analysis. Interested parties may be added to this list by notifying Jackie W. Jones (202-205-3466, jackie.jones@usitc.gov) or Heidi Colby-Oizumi (202-205-3391, heidi.colby@usitc.gov). The notification letter will specify the article(s) under consideration, the deadline for submission of public comments on the proposed preferential treatment, and the name, telephone number, and Internet e-mail address of a staff contact for additional information. The Commission has a special area on its Internet site (http://www.usitc.gov/ind_econ_ana/research_ana/pres_cong/332/short_supply/shortsupintro.htm) to provide the public with information on the status of each request for which the Commission initiated analysis. CITA publishes a summary of each request from interested parties in the Federal Register and posts them on its Internet site (U.S. Department of Commerce, Office of Textiles and Apparel, at http://otexa.ita.doc.gov/fr.htm).

The Commission will submit its reviews to the USTR not later than the 42nd day after receiving a request for advice. The Commission will post a public version of each review on its website as soon as possible thereafter, with any confidential business information deleted.

FOR FURTHER INFORMATION CONTACT: Project Leader: Jackie W. Jones (202-205-3466, jackie.jones@usitc.gov). Deputy Project Leader: Heidi Colby-Oizumi (202-205-3391, heidi.colby@usitc.gov).

Industry-specific information may be obtained from the above persons. For more information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal on 202-205-1810. General information concerning the Commission may also be obtained by accessing its internet server (http://www.usitc.gov). The public record for these investigations may be viewed on the Commission's electronic docket (EDIS-ONLINE) at http://edis.usitc.gov/hvwebex.

Written submissions: Because of time constraints, the Commission will not hold public hearings in connection with the advice provided under this investigation number. However, interested persons are invited to submit written statements containing data and other information concerning the matters to be addressed by the Commission. All submissions should be addressed to the Secretary, United States International Trade Commission, 500 E Street, SW., Washington, DC 20436, and should be received no later than the close of business (5:15 p.m. EST) on the date stated in the notification letter of each review of a petition. All written submissions must conform with the provisions of § 201.8 of the Commission's Rules of Practice and Procedure (19 CFR 201.8). Section 201.8 of the rules requires that a signed original (or a copy designated as an original) and three (3) copies of each document be filed. In the event that confidential treatment of the document is requested, at least two (2) additional copies must be filed, in which the confidential business information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook. Persons with questions regarding electronic filing should contact the Office of the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. Some or all of the confidential business information provided may be included in the reviews that the Commission sends to the USTR. The Commission plans to publish a public version of each review shortly after a review is sent to the USTR. However, in the public version the Commission will not publish confidential business information in a manner that would reveal the operations of the firm supplying the information.

Persons with mobility impairments who will need special assistance in gaining access to the Commission should contact the Secretary at 202-205-2000.

By order of the Commission.
Issued: February 28, 2006.
Marilyn R. Abbott,
Secretary to the Commission.

[FR Doc. E6-3082 Filed 3-2-06; 8:45 am]

BILLING CODE 7020-02-P